DEPARTMENT OF TRANSPORTATION

Coast Guard

33 CFR Part 117

[CGD01-01-137]

Drawbridge Operation Regulations: Annisqualm River, MA

AGENCY: Coast Guard, DOT.

ACTION: Notice of temporary deviation from regulations.

SUMMARY: The Commander, First Coast Guard District, has issued a temporary deviation from the drawbridge operation regulations for the Gloucester (AMTRAK) railroad bridge, mile 0.7, across the Annisqualm River in Gloucester, Massachusetts. This deviation from the regulations will allow the bridge to remain in the closed position from 12:01 a.m. on November 17, 2001 through 5 a.m. on November 19, 2001 and from 12:01 a.m. on November 24, 2001 through 5 a.m. on November 26, 2001. This temporary deviation is necessary to facilitate necessary repairs at the bridge.

DATES: This deviation is effective from November 17, 2001 through November 26, 2001.

FOR FURTHER INFORMATION CONTACT: John McDonald, Project Officer, First Coast Guard District, at (617) 223-8364.

SUPPLEMENTARY INFORMATION: The Gloucester (AMTRAK) railroad bridge, mile 0.7, across the Annisqualm River has a vertical clearance in the closed position of 16 feet at mean high water and 25 feet at mean low water. The existing drawbridge operating regulations require the draw to open on signal at all times.

The bridge owner, National Railroad Passenger Corporation (AMTRAK), requested a temporary deviation from the drawbridge operating regulations to facilitate scheduled maintenance, replacement of the rails, ties, conley frogs, and timbers, at the bridge.

This deviation to the operating regulations will allow the bridge to remain in the closed position from 12:01 a.m. on November 17, 2001 through 5 a.m. on November 19, 2001 and from 12:01 a.m. on November 24, 2001 through 5 a.m. on November 26, 2001.

This deviation from the operating regulations is authorized under 33 CFR 117.35, and will be performed with all due speed in order to return the bridge to normal operation as soon as possible.

Dated: August 30, 2001.
G.N. Naccara,
Rear Admiral, U.S. Coast Guard, Commander, First Coast Guard District.

[FR Doc. 01-22986 Filed 9-12-01; 8:45 am]

BILLING CODE 4910-15-U